DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Evaluation and Initial Assessment of HRSA Teaching Health Centers.

OMB No. 0915-xxxx—NEW.

Abstract: Section 5508 of the Affordable Care Act of 2010 (ACA) amended section 340H of the Public Health Service (PHS) Act to establish the Teaching Health Center Graduate Medical Education (THCGME) program to support the expansion of new and existing primary care residency training programs in community-based settings. The primary goals of the THCGME program are to increase the production of primary care doctors who are well prepared to practice in community settings, particularly with underserved populations, and to improve the overall number and geographic distribution of primary care providers. To ensure these goals are achieved, the George Washington University (GW) will conduct an evaluation of the training, administrative and organizational structures, clinical service, challenges, innovations, costs associated with training, and outcomes of teaching health centers (THCs). GW has developed a program data collection tool that assesses basic organizational and training characteristics of the programs (including program specialty, numbers trained, training sites, educational partners, and residency program financing), educational initiatives (particularly around training for changing health care delivery systems and community experiences), and health center characteristics (including current workforce and vacancies, clinical service provided by residents, and participation in workforce programs such as the National Health Service Corps).

Questionnaires have also been developed for implementation with all THC matriculating residents, graduating residents, and graduated residents at 1 year post-graduation. The matriculation questionnaire aims to collect background information on THC residents to better understand the characteristics of individuals who apply and are accepted to THC programs. The graduation questionnaire collects information on career plans. The alumni questionnaire collects information on career outcomes (including practice in primary care and in underserved settings) following graduation, as well as feedback on the quality of training.

Need and Proposed Use of the Information: Statute requires that THC programs report annually on the types of primary care resident approved training programs provided, the number of approved training positions, the number who completed their residency at the end of the prior academic year and care for vulnerable populations living in underserved areas, and any other information as deemed appropriate by the Secretary (Section 340H(h)(1) of the PHS Act). The described data collection activities will serve to meet this statutory requirement for the THC programs in a uniform and consistent manner and will allow comparisons of this group to other trainees in non-THC programs (See also Section 241 of the PHS Act).

Likely Respondents: THC Program Directors will respond to the part of the data collection tool related to the characteristics of the programs, and THC matriculating residents, graduating residents, and graduated residents at 1 year post-graduation will respond to the questionnaires related to characteristics of the residents.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Program Data Collection Tool | 40 | 1 | 40 | 8.00 | 320
THC Alumni Survey | 200 | 1 | 200 | 0.33 | 66
THC Matriculant Survey | 200 | 1 | 200 | 0.25 | 50
THC Graduation Survey | 200 | 1 | 200 | 0.25 | 50
Total | 640 |  | 640 |  | 486

Dated: September 5, 2013.
Bahar Niakan,
Director, Division of Policy and Information Coordination.

[FR Doc. 2013-22106 Filed 9-10-13; 8:45 am]

BILLING CODE 4165-15-P